DEPARTMENT OF THE INTERIOR

Fish and Wildlife Service

[FWS-R4-ES-2009-N0089; 41910-1112-0000-F2]

Endangered and Threatened Wildlife and Plants; Permit(s); Road Construction and Associated Storm Water Retention Pond in Lake County, FL

AGENCY: Fish and Wildlife Service, Interior.

ACTION: Notice of receipt of application for an incidental take permit (ITP); availability of proposed low-effect habitat conservation plans (HCP); request for comment/information.

SUMMARY: We, the Fish and Wildlife Service (Service), announce the availability of an incidental take permit (ITP) application and habitat conservation plan (HCP). Lake County Public Works (applicant) requests a 5-year ITP under the Endangered Species Act of 1973, as amended (Act). The applicant anticipates taking approximately 0.19 acres (ac) of sand skink (Neoseps reynoldsi)—occupied habitat incidental to realignment of a county road (CR) and construction of a storm water retention pond in Lake County, Florida (project). The applicant's HCP describes the mitigation and minimization measures the applicant proposes to address the effects of the project to the sand skink.

DATES: We must receive any written comments on the ITP application and HCP on or before July 6, 2009.

ADDRESSES: If you wish to review the application and HCP, you may write the Field Supervisor at our Jacksonville Field Office, 7915 Baymeadows Way, Suite 200, Jacksonville, FL 32256, or make an appointment to visit during normal business hours. If you wish to comment, you may mail or hand deliver comments to the Jacksonville Field Office, or you may e-mail comments to paula_sisson@fws.gov. For more information on reviewing documents and public comments and submitting comments, see SUPPLEMENTARY INFORMATION.

FOR FURTHER INFORMATION CONTACT: Paula Sisson, Fish and Wildlife Biologist, Jacksonville Field Office (see ADDRESSES); telephone: 904-731-3134.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Please reference permit number TE211384-0 for Lake County Public Works in all requests or comments. If you do not receive a confirmation from us that we have received your e-mail message, contact us directly at the telephone number listed under FOR FURTHER INFORMATION CONTACT.

Background

Due to the reduction in quality and acreage of xeric (bare, scrub-like areas with sandy soils, open canopies) upland communities, and the rapid development occurring in these areas, the sand skink is reportedly declining throughout most of its range. By some estimates, as much as 90 percent of the scrub ecosystem has already been lost to residential development and conversion to agriculture, including citrus groves.

Applicant's Proposal

The applicant is requesting take of approximately 0.19 ac of occupied sand skink habitat incidental to the project. The 1.06-ac project is located east of State Road 455 within Section 17, Township 21 South, Range 26 East, Lake County, Florida. The proposed project currently includes realignment of a portion of CR 455 that does not meet government safety standards and will include construction of a stormwater retention pond to address runoff associated with the realigned roadway. The applicant proposes to mitigate for the take of the sand skink at a ratio of 2:1 based on Service Mitigation Guidelines. The applicant proposes to mitigate for 0.19 ac of impacts by purchasing 0.40 ac of occupied sand skink habitat in Polk County, Florida, within the boundaries of the Lake Wales Ridge.

We have determined that the applicant's proposal, including the proposed mitigation and minimization measures, would have minor or negligible effects on the species covered in the HCP. Therefore, we are making a preliminary determination that the ITP is a “low-effect” project and qualifies for categorical exclusion under the National Environmental Policy Act (NEPA), as provided by the Department of the Interior Manual (516 DM 2 Appendix 1 and 516 DM 6 Appendix 1). We may revise this preliminary determination based on our review of public comments we receive in response to this notice. A low-effect HCP is one involving: (1) Minor or negligible effects on federally listed or candidate species and their habitats, and (2) minor or negligible effects on other environmental values or resources.

We will evaluate the HCP and comments we receive to determine whether the ITP application meets the requirements of section 10(a) of the Act (16 U.S.C. 1531 et seq.). If we determine that the application meets those requirements, we will issue the ITP for incidental take of the sand skink. We will also evaluate whether issuance of the section 10(a)(1)(B) ITP complies with section 7 of the Act by conducting an intra-Service section 7 consultation. We will use the results of this consultation, in combination with the above findings, in our final analysis to determine whether or not to issue the ITP.

Authority

We provide this notice under Section 10 of the Act and NEPA regulations (40 CFR 1506.6).

Dated: May 28, 2009.
David L. Hankla,
Field Supervisor, Jacksonville Field Office.

[FR Doc. E9-13033 Filed 6-3-09; 8:45 am]

BILLING CODE 4310-55-P